DEPARTMENT OF HOUSING AND URBAN DEVELOPMENT

[Docket No. FR-4560-C-08]

FY 2000 Super Notice of Funding Availability (SuperNOFA) for HUD's Housing, Community Development and Empowerment Programs and Section 8 Housing Voucher Assistance; Amendment to Funding Availability Announcement for Economic Development Initiative (EDI); Extension of Application Due Date for Regional Economic Development Projects

AGENCY: Office of the Secretary, HUD.

ACTION: Super Notice of Funding Availability (SuperNOFA) for HUD Grant Programs; Amendment to EDI Announcement—Extension of EDI Regional Application Due Date.

SUMMARY: On February 24, 2000, HUD published its Fiscal Year (FY) 2000 Super Notice of Funding Availability (SuperNOFA) for HUD's Housing, Community Development, and Empowerment Programs and Section 8 Housing Voucher Assistance. This document extends the application due date to apply for funding for regional economic development projects under the Economic Development Initiative (EDI). This application due date extension is only for the regional economic development project applications.

DATES: The application due date for EDI regional economic development projects applications is extended by this notice to July 14, 2000.

FOR FURTHER INFORMATION CONTACT: You may contact either Tony Johnston or Paul Webster of the Office of Economic Development Department of Housing and Urban Development, 451 Seventh Street, SW, Room 7136, Washington, DC 20410; telephone (202) 708-1871 (this is not a toll-free number). Persons with speech or hearing impairments may access this number via TTY by calling the toll-free Federal Information Relay Service at 1-800-877-8339. You may also call the SuperNOFA Information Center, which you may reach by calling 1-800-HUD-8929 or the Center's TTY number at 1-800-HUD-2209. Other than the “800” number, these numbers are not toll-free.

SUPPLEMENTARY INFORMATION: On February 24, 2000 (65 FR 9322), HUD published its Fiscal Year (FY) 2000 Super Notice of Funding Availability (SuperNOFA) for HUD's Housing, Community Development, and Empowerment Programs and Section 8 Housing Voucher Assistance. The FY 2000 SuperNOFA announced the availability of approximately $2.424 billion in HUD program funds covering 39 grant categories within programs operated and administered by HUD offices and Section 8 housing voucher assistance. The FY 2000 SuperNOFA included HUD's funding availability announcement for the Economic Development Initiative (EDI). The EDI section of the SuperNOFA announced the availability of approximately $24.1 million in EDI funds to stimulate economic development by local governments and private sector parties.

This document extends the application due date to apply for funding for regional economic development projects under the Economic Development Initiative (EDI) to July 14, 2000. This application due date extension is only for regional economic development project applications. It has been brought to HUD's attention that the amount of time necessary to collect and compile the information necessary for a regional economic development project application is more time consuming than that required for general economic development project applications. Accordingly, HUD is providing additional time to prepare and submit regional economic development project applications. (Please note that the EDI application due was extended previously to June 13, 2000, for all applications by notice published in the Federal Register on May 9, 2000 (65 FR 26844).)

Please note that applicants that already submitted applications for regional economic development projects by the June 13, 2000, application due date, need not resubmit a new application and need not amend their applications. Applicants that already submitted applications for regional economic development projects, however, may submit new or amended applications if they choose to do so. Applicants that already submitted applications and plan to submit new or amended applications should clearly identify whether the information submitted is new and replaces a previously submitted application in its entirety or is an addendum or amendment to the previously submitted application.

The funding availability announcement for EDI is found at page 9787 of the February 24, 2000 SuperNOFA. The original announcement contains all the information with respect to EDI application contents and where to submit EDI applications. This notice only provides the extended due date for regional economic development project applications.

Therefore, in the Super Notice of Funding Availability for Housing, Community Development, and Empowerment Programs and Section 8 Housing Voucher Assistance for Fiscal Year 2000, notice document 00-4123, beginning at 65 FR 9322, in the issue of Friday, February 24, 2000, the following clarification is made:

Economic Development Initiative (EDI) Section, Beginning at 65 FR 9789

• On page 9789, in the first column, continuing to the second column, under Section I, the paragraphs concerning “Application Deadline” under the Program Overview and “Application Due Date” under Section I of the Additional Information are corrected to read as follows:

Application Deadline. July 14, 2000, for the regional economic development project applications, and June 13, 2000, for general economic development project applications.

* * * * *

Application Due Date. Please submit your completed applications (one original and two copies) for general economic development project(s) on or before 12:00 midnight, Eastern time, on June 13, 2000, to the addresses shown below. Please submit your completed applications (one original and two copies) for regional economic development project(s) on or before 12:00 midnight, Eastern time, on July 14, 2000.

Applicants that already submitted applications by the June 13, 2000, application due date need not resubmit a new application and need not amend their applications. Applicants that already submitted applications, however, may submit new or amended applications if they choose to do so.

Applicants that submit new or amended applications should clearly identify whether the information submitted is new and replaces a previously submitted application in its entirety or is an addendum or amendment to the previously submitted application.

Dated: June 7, 2000.
Cardell Cooper,
Assistant Secretary for Community Planning and Development.

[FR Doc. 00-14852 Filed 6-8-00; 2:32 pm]

BILLING CODE 4210-32-P